OFFICE OF THE FEDERAL REGISTER

1 CFR Part 51

[NARA-12-0002]

Incorporation by Reference

AGENCY: Office of the Federal Register, National Archives and Records Administration.

ACTION: Extension of the comment period.

SUMMARY: On February 13, 2012, the Office of the Federal Register (OFR or we) received a petition to amend our regulations governing the approval of agency requests to incorporate material by reference into the Code of Federal Regulations. We published an announcement of the petition and request for comments on February 27, 2012. Since that time we have received one formal and several informal requests to extend the comment period. We are extending the comment period until June 1, 2012. We will not accept late comments.

DATES: We are extending the comment period until June 1, 2012. We will not accept late comments.

ADDRESSES: You may submit comments, identified using the subject line of this document, by any of the following methods:

• Federal eRulemaking Portal: http://www.regulations.gov. Follow the instructions for submitting comments.

• Email: Fedreg.legal@nara.gov. Include the subject line of this document in the subject line of the message.

• Mail: the Office of the Federal Register (NF), The National Archives and Records Administration, 8601 Adelphi Road, College Park, MD.

• Hand Delivery/Courier: Office of the Federal Register, 800 North Capitol Street NW., Suite 700, Washington, DC 20001.

Docket materials are available at the Office of the Federal Register, 800 North Capitol Street NW., Suite 700, Washington, DC 20001, 202-741-6030. Please contact the persons listed in the FOR FURTHER INFORMATION CONTACT section to schedule your inspection of docket materials. The Office of the Federal Register's official hours of business are Monday through Friday, 8:45 a.m. to 5:15 p.m., excluding Federal holidays.

FOR FURTHER INFORMATION CONTACT: Amy Bunk, Director of Legal Affairs and Policy, or Miriam Vincent, Staff Attorney, Office of the Federal Register, at Fedreg.legal@nara.gov, or 202-741-6030.

SUPPLEMENTARY INFORMATION: The Office of the Federal Register (OFR or we) received a petition to revise our regulations at 1 CFR part 51 on February 13, 2012. We published an announcement of the petition and a request for comments on February 27, 2012. 77 FR 11414. You can view the petition and its suggested revisions to the regulations 1 CFR part 51 on www.regulations.gov. At the regulations.gov main page type NARA-12-0002 in the search box to find the docket for this petition.

Since we published the announcement, we have received several informal and one formal request to extend the comment period on the petition. After considering the requests, we have decided to extend the comment period to June 1, 2012. Because this extension gives commenters more than 90 days to consider the petition and submit comments on its merits, we will not accept comments received after June 1, 2012.

Michael L. White,
Acting Director, Office of the Federal Register.

[FR Doc. 2012-6935 Filed 3-21-12; 8:45 am]

BILLING CODE 1505-02-P